DEPARTMENT OF TRANSPORTATION

Surface Transportation Board

Information and Collection; Notice and Request for Comments

SUMMARY: The Surface Transportation Board (Board), as part of its continuing effort to reduce paperwork burdens, and as required by the Paperwork Reduction Act of 1995, 44 U.S.C. 3501 et seq. (PRA), gives notice that the Board will seek from the Office of Management and Budget (OMB) an extension of approval for the currently approved collection of maps in abandonment exemption proceedings. The Board is seeking comments from persons who have sought, or anticipate seeking, authority to abandon or discontinue rail service through the Board's exemption procedures concerning (1) Whether the collection of maps is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate. Submitted comments will be summarized and included in the Board's request for OMB approval.

Description of Collection

Title: Maps Required in Abandonment Exemption Proceedings.

OMB Control Number: 2140-0008.

Form Number: None.

Type of Review: Extension without change.

Respondents: Railroads initiating abandonment exemption proceedings.

Number of Respondents: 91.

Estimated Time per Response: 1 hour, based on average time reported in informal survey of respondents conducted in 2003.

Frequency of Response: 1.

Total Annual Burden Hours: 91.

Total Annual “Non-Hour Burden” Cost: None have been identified.

Needs and Uses: Under 49 CFR 1152.50(d)(2) and 1152.60(b), the Board requires in each abandonment exemption proceeding a detailed map of the rail line, depicting the line's relation to other rail lines, roads, water routes, and population centers. The Board uses this information to determine the scope and the impact of the proposed abandonment. In addition, this information is posted on the Board's Web site and serves as a form of notice to current and/or potential shippers, and to persons who might want to make an offer of financial assistance under 49 U.S.C. 10904; acquire the line as a trail under the National Trails System Act, 16 U.S.C. 1247(d); or acquire the line for another public purpose under 49 U.S.C. 10905.

Deadline: Persons wishing to comment on this information collection should submit comments by September 11, 2006.

ADDRESSES: Direct all comments to Marilyn Levitt, Surface Transportation Board, Room 614, 1925 K Street, NW., Washington, DC 20423 or levittm@stb.dot.gov or by fax at (202) 565-9001. When submitting comments refer to the OMB number and title of the information collection.

FOR FURTHER INFORMATION CONTACT: Barbara G. Saddler, (202) 565-1656. Requests for a copy of the regulations pertaining to this information collection may be obtained by contacting Barbara G. Saddler at (202) 565-1656 or saddlerb@stb.dot.gov.

SUPPLEMENTARY INFORMATION: Under the PRA, a Federal agency conducting or sponsoring a collection of information must display a currently valid OMB control number. Collection of information, which is defined in 44 U.S.C. 3502(3) and 5 CFR 1320.3(c), includes agency requirements that persons submit reports, keep records, or provide information to the agency, third parties, or the public. Under section 3506(c)(2)(A) of the PRA, Federal agencies are required to provide a 60-day notice and comment period through publication in the Federal Register concerning each proposed collection of information, including each proposed extension of an existing collection of information, before submitting the collection to OMB for approval.

Dated: July 12, 2006.
Vernon A. Williams,
Secretary.

[FR Doc. E6-10830 Filed 7-11-06; 8:45 am]

BILLING CODE 4915-01-P